DEPARTMENT OF ENERGY

Federal Energy Regulatory Commission

[Docket No. IC06-592-000; FERC-592]

Commission Information Collection Activities, Proposed Collection; Comment Request; Extension

July 18, 2006.

AGENCY: Federal Energy Regulatory Commission.

ACTION: Notice.

SUMMARY: In compliance with the requirements of section 3506(c)(2)(a) of the Paperwork Reduction Act of 1995 (Pub. L. No. 104-13), the Federal Energy Regulatory Commission (Commission) is soliciting public comment on the specific aspects of the information collection described below.

DATES: Comments on the collection of information are due September 5, 2006.

ADDRESSES: Copies of sample filings of the proposed collection of information can be obtained from the Commission's Web site (http://www.ferc.gov/docs-filings/elibrary.asp) or from the Federal Energy Regulatory Commission, Attn: Michael Miller, Office of the Executive Director, ED-34, 888 First Street NE., Washington, DC 20426. Comments may be filed either in paper format or electronically. Those parties filing electronically do not need to make a paper filing. For paper filing, the original and 14 copies of such comments should be submitted to the Secretary of the Commission, Federal Energy Regulatory Commission, 888 First Street, NE., Washington, DC 20426 and refer to Docket No. IC06-592-000.

Documents filed electronically via the Internet must be prepared in WordPerfect, MS Word, Portable Document Format, or ASCII format. To file the document, access the Commission's Web site at http://www.ferc.gov and click on “Make an e-Filing” and then follow the instructions for each screen. First time users will have to establish a user name and password. The Commission will send an automatic acknowledgement to the sender's e-mail address upon receipt of comments.

All comments may be viewed, printed or downloaded remotely via the Internet through FERC's homepage using the eLibrary link. For user assistance, contact FERConlinesupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-592 “Marketing Affiliates of Interstate Pipelines” (OMB No. 1902-0157) is used by the Commission to implement the statutory provisions of sections 4, 5, 7, 8, 10, 14, 16, and 20 of the Natural Gas Act (NPA) 15 U.S.C. 717-717w and Title II, section 311 and sections 501 and 504 of the Natural Gas Policy Act (Pub. L. 95-621).

The FERC-592 requirements apply to “Transmission Providers” who are defined as any interstate natural gas pipeline that transports gas for others, subject to the Natural Gas Act (i.e., pursuant to subpart A of part 157 or subparts B or G of part 284). See 18 CFR 358.3(a)(1) and (2). A Transmission Provider does not include a natural gas storage provider authorized to charge market-based rates that is not interconnected with the jurisdictional facilities of any affiliated interstate natural gas pipeline, has no exclusive franchise area, no captive ratepayers or no market power, 18 CFR 358.3(a)(3).

Initially, FERC-592 was adopted when the Commission issued the Standards of Conduct in Order No. 497, 53 FR 22161, June 14, 1988. The Commission issued the Standards of Conduct to prevent Transmission Providers from discriminating against non-affiliated shippers or from granting undue preferences to their marketing and energy affiliates. In response to growing competition in the natural gas marketplace and to further ensure that it could monitor transactions for the exercise of market power, the Commission revised its reporting requirements in Order No. 637, 65 FR 10219, on February 25, 2000. The Commission required pipelines to post more transmission information on their Internet Web sites to improve transparency of transmission information.

With the revisions in Order No. 637, the Commission also eliminated many of the requirements of the original FERC-592s. First the Commission eliminated the requirement to submit the FERC-592 information to the Commission. Second the Commission eliminated many of the items required under the FERC-592 requirements and retained only two requirements: (1) A pipeline must retain information pertaining to discounts (affiliated and non-affiliated) and, (2) if a pipeline relies on contract information or other data to allocate capacity, it must maintain a log of that information for all shippers (affiliated and non-affiliated).

In November 2003, the Commission enhanced and expanded the Standards of Conduct in Order No. 2004 and subsequently in Order Nos. 2004-A, B, C, and D. However, Order No. 2004 did not substantively change the FERC-592 requirements, which applies only to natural gas Transmission Providers.

While there are many different requirements under the Standards of Conduct, the basic requirements are that a Transmission Provider must: (1) Function independently from its Marketing and Energy Affiliates; and (2) must treat all transmission customers, affiliated and non-affiliated, on a non-discriminatory basis and may not operate its transmission system to preferentially benefit its Marketing or Energy Affiliates. See 18 CFR 358.2.

This information is used by the Commission, market participants and state commissions to monitor for undue discrimination by pipeline companies in favor of their marketing affiliates and in some cases, this information is used in formal proceedings following the filing of a complaint.

Action: The Commission is requesting a three-year extension of the current expiration date, with no changes to the existing collection of data.

Burden Statement: Public reporting burden for this collection is estimated as:

Number of respondents annually | Number of responses per respondent | Average burden hours per response | Total annual burden hours
(1) | (2) | (3) | (1) × (2) × (3)
85 | 1 | 117 | 9,913

Estimated cost burden to respondents is $559,136; (9,913 burden hours/2080 work hours per year × $117,321 annual average salary per employee = $559,136). The estimated annual cost per respondent is $6,578.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; (7) transmitting, or otherwise disclosing the information; and (8) requesting e.g. waiver or clarification of requirements.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Magalie R. Salas,
Secretary.

[FR Doc. E6-11884 Filed 7-25-06; 8:45 am]

BILLING CODE 6717-01-P